DEPARTMENT OF TRANSPORTATION

Federal Highway Administration

Participation in the Transportation Technology Innovation and Demonstration Program

AGENCY: Federal Highway Administration (FHWA), United States Department of Transportation (U.S. DOT).

ACTION: Notice; request for expression of consent to participate.

SUMMARY: As authorized by section 5508 of the Safe, Accountable, Flexible, Efficient Transportation Equity Act: A Legacy for Users (SAFETEA-LU), the U.S. DOT/FHWA is interested in working with eligible State and local governments and one or more private sector partners to build upon the Intelligent Transportation Infrastructure Program (ITIP) that began under the provisions of section 5117(b)(3) of the Transportation Equity Act for the 21st Century (TEA-21). The SAFETEA-LU provides for the extension and further expansion of the ITIP program under the Transportation Technology Innovation and Demonstration Program (TTID), a new 2-part program that would advance the deployment of an operational intelligent transportation infrastructure system, through measurement of various transportation system parameters, to simultaneously aid in local transportation planning and analysis activities, while also supporting national monitoring of traffic congestion levels. The purpose of this program is threefold: Addressing national, local, and commercial data needs through enhancement of surveillance and data management capabilities in major metropolitan areas. This involves integration of data from existing surveillance infrastructure, and strategic deployment of supplemental surveillance infrastructure to support the provision of both real-time and archived roadway system performance data. At the national level, the goal is to develop an ability to measure the operating performance of the roadway system across the nation. Made available locally, such roadway system performance data can be used to assist in local system planning, evaluation, and management activities. The same data that is useful to the public transportation agencies also has value for commercial traveler information purposes. To achieve these objectives, the U.S. DOT/FHWA is seeking expressions of consent from eligible State and/or local transportation agencies/organizations interested in forming a public-private partnership, with a private partner that has either been pre-selected, or that will be selected, by the U.S. DOT/FHWA, to participate in the TTID program.

DATES: Expressions of consent to participate must be received by 4 p.m., e.t., February 6, 2006.

ADDRESSES: Expressions of consent to participate should be submitted directly to the Federal Highway Administration, Office of Transportation Management, HOTM-1, Attention: Chung Eng, 400 Seventh St., SW., Room 3404, Washington, DC 20590. Material may be submitted electronically to: chung.eng@fhwa.dot.gov.

FOR FURTHER INFORMATION CONTACT: Mr. Chung Eng, Office of Transportation Management (HOTM-1), (202) 366-8043, or Mr. Wilbert Baccus, Office of the Chief Counsel (HCC-40), (202) 366-0780, U.S. Department of Transportation, Federal Highway Administration, 400 Seventh St., SW., Washington, DC 20590. Office hours are from 7:45 a.m. to 4:15 p.m., e.t., Monday through Friday, except Federal holidays.

SUPPLEMENTARY INFORMATION:

Background

The ITIP program has its origin in section 5117(b)(3) of the TEA-21 (Pub. L. 105-178, as amended by title IX of Pub. L. 105-206), which required private technology commercialization initiatives as part of a program to “advance the deployment of an operational intelligent transportation infrastructure system for the measurement of various transportation system activities to aid in the transportation planning and analysis while making a significant contribution to the ITS program.” To that end, the U.S. DOT/FHWA retained a private sector Consortium consisting of Signal Corporation (now a part of General Dynamics); Traffic.com; Michael Baker Jr., Inc.; L.R Kimball & Associates, Inc.; and PB Farradyne, Inc. to experiment with the collection and archiving of performance monitoring data that would ultimately be used to measure national system performance while also using this data for commercial traveler information purposes. The successful testing of this public-private partnership in the two pilot cities of Pittsburgh and Philadelphia, Pennsylvania led to a $50 million expansion of the ITIP program to accommodate up to 25 additional deployments in pre-selected deployment areas with a pared down Consortium consisting of Traffic.com as lead partner, and General Dynamics. Progress to date on the ITIP program expansion is as follows:

• $28 million committed to 14 expansion deployment areas:

(a) 4—Fully Operational: Chicago, Providence, Tampa, Boston.

(b) 8—Partially Deployed: Detroit, Los Angeles, Oklahoma City, Phoenix, St. Louis, San Diego, San Francisco, Washington DC Region.

(c) 2—Design In Progress: Baltimore, Seattle.

• 5 deployment areas are in negotiations with the Consortium, including Las Vegas, Miami, New York, Orlando, and Salt Lake City.

• 8 deployment areas opted out of the original program, including Birmingham, Cincinnati/Northern Kentucky, Cleveland, Dallas/Ft. Worth, Denver, Houston, Indianapolis, and Portland (OR).

• $22 million remains available under the current contract with the Consortium, enough to accommodate 11 additional eligible areas.

The completed and planned deployments in each metropolitan area feature the following:

• Public-private partnership for the provision of data services to the public agency partners;

• Up to 100 sensors deployed in each metropolitan area, primarily along freeways and other major arterials, capable of providing data on volume, speed, lane occupation, and limited vehicle classification;

• Archived database function;

• Commercialization component to enable self sufficiency;

• Free Web-based access to real-time as well as archived data for public agency stakeholders;

• Free Web-based basic traffic condition information to the general public (http://www.traffic.com);

• Additional value-added commercial services available on a fee basis;

• Private funding contribution toward infrastructure;

• Firm, fixed price contract where the private partner owns, operates, and maintains the system;

• Integration of at least one legacy system (e.g. the Pennsylvania DOT's Traffic Operations Center in Pittsburgh);

• Sharing of gross revenues to support system enhancements; and

• Reliability performance measure calculations and reports provided on a monthly basis.

In section 5508 of the SAFETEA-LU (Pub. L. 109-59; 119 Stat. 1144; Aug. 10, 2005), Congress extended the existing relationship with the TEA-21 Consortium in Part I, and further expanded the existing program by providing the opportunity to participate in Part II, of the new 2-part TTID program.

Solicitation of Interest

This notice solicits expressions of consent to participate in the 2-part TTID program, which is described in greater detail below. For the purpose of this notice, an “expression of consent to participate” is defined to mean a commitment to enter into negotiations for possible participation in the program. The legislation identifies specific “deployment” and “congested” areas that will have the opportunity to participate in the enhanced program and requires that these eligible areas express consent to participate, or establish a date by which they will consent to participate within the first 180 days after enactment of the SAFETEA-LU (by February 6, 2006). This notice does not affect those deployment areas that have already received prior funding through the ITIP program. The process and method for submitting expressions of consent is set forth in the Instructions to Respondents section below.

Part I of the TTID program provides for the selection, under the current task order contract ¹ with the Consortium, of up to 11 metropolitan areas to receive Federal grants of no more than $2 million each. Part II will expand the program by the U.S. DOT/FHWA awarding contracts on a competitive basis for the deployment of systems in selected congested areas, with consent from the affected State DOT's. Part II currently has funding to support the selection of no more than 3 metropolitan areas to receive Federal grants of no more than $2 million each, but may receive additional funding through future appropriations. The focus in both Part I and Part II of the TTID program is to enhance existing surveillance infrastructure in participating areas through integration, along with strategic deployment of supplemental surveillance infrastructure. The enhanced surveillance infrastructure and performance data generated will be used to: (1) Aid the public sector partner in carrying out system management activities including operations, planning, analysis, and maintenance; (2) support provision of basic traveler information to the public at no cost to the public; (3) provide opportunities for commercialization of other Advanced Traveler Information Services (ATIS); and (4) support submittal of data and system performance measure reports to the U.S. DOT/FHWA on a monthly basis.

¹ A copy of the current task order contract may be obtained by contacting Chung Eng at (202) 366-8043 or chung.eng@fhwa.dot.gov.

U.S. DOT/FHWA Objectives

The U.S. DOT/FHWA will provide funding under the 2-part TTID program to:

• Build, enhance, and/or integrate intelligent transportation infrastructure in major metropolitan areas to enable and help manage the continuous monitoring of the roadway system for purposes of providing real-time as well as archived data to aid in the operation, planning, analysis, and maintenance activities of the U.S. DOT/FHWA and State and local agencies;

• Enhance the quality, availability, and accessibility of transportation system performance data to enable the calculation of mobility performance and system reliability measures while satisfying system operational needs at the same time;

• Provide to the U.S. DOT/FHWA specified performance data and reports;

• Provide a traveler information service that includes free public access to basic traveler information, and supports provision of a 511 based telephone service;

• Realize and publicize the benefits of regionally integrated and interoperable intelligent transportation infrastructure capable of supporting regional as well as national needs;

• Provide private technology commercialization initiatives to generate revenues that will be reinvested in the intelligent transportation infrastructure system;

• Aggregate data into reports for multipoint data distribution techniques; and

• With respect to Part I of the TTID program, use an advanced information system designed and monitored by an entity with experience with the Department of Transportation in the design and monitoring of high reliability, mission critical voice and data systems.

Funding

The U.S. DOT/FHWA will select up to 11 metropolitan areas to participate in Part I, and up to 3 metropolitan areas to participate in Part II. A total of up to $2 million in Federal funds per metropolitan area will be made available to the consenting metropolitan areas selected. For Part I, the Federal funding will be made available to the selected partnerships through an existing contract involving the Consortium. For Part II, the Federal funding will be made available to the selected partnerships through competitive awards to one or more private partners to be selected by the U.S. DOT/FHWA, with appropriate input and consent from the selected metropolitan areas.

Federal funding for the TTID program shall be used to support:

1. Creation of a process and mechanism to collect, integrate, archive, manage, and report new and existing transportation data for mobility and performance monitoring, planning, evaluation, and other similar purposes;

2. Creation of a data repository of new and existing real-time traveler information for dissemination to the traveling public through a variety of delivery mechanisms, including support for a 511 based telephone service, and free public access to basic traveler information, and commercial traveler information services;

3. Creation of a regional transportation information system that integrates and supplements existing surveillance infrastructure to support public sector transportation management needs and private sector commercialization; and

4. Accommodation/integration of existing transportation data collection, archival, and dissemination mechanisms.

There will be a twenty percent matching share ($500,000 match required if full $2 million in federal funds is provided) that must be from non-federally derived funding sources, as required in sections 5508 of SAFETEA-LU and 5117(b)(3) of TEA-21. For the purposes of this program, this matching share must consist of a cash contribution to the project. The non-federally derived funding may come from State, local government, or private sector partners.

Note: Funding identified to support continued operations, maintenance, and management of the system will not be considered as part of the partnership's cost-share contribution.

The U.S.DOT/FHWA and the Comptroller General of the United States will have the right to access all documents pertaining to the use of Federal funds and non-Federal contributions. Non-Federal partners must maintain sufficient documentation to substantiate these costs. Such items as direct labor, fringe benefits, material costs, consultant costs, public involvement costs, subcontractor costs, and travel costs should be included in that documentation.

Eligibility

Eligible Areas Defined

• Group A: Deployment areas in active negotiations under current contract.

• Group B: Deployment areas that had previously opted out of the ITIP program.

• Group C: Newly eligible congested areas.

Table I.—Eligible Areas
Group A * | Group B | Group C
1 Las Vegas | 1 Birmingham | 1 Albany.
2 Miami | 2 Cincinnati | 2 Atlanta.
3 New York/Northern New Jersey ** | 3 Cleveland | 3 Austin.
4 Orlando | 4 Dallas/Fort Worth | 4 Burlington.
5 Salt Lake City | 5 Denver | 5 Charlotte.
| 6 Houston | 6 Columbus, OH.
| 7 Indianapolis | 7 Greensboro.
| 8 Portland, OR | 8 Hartford.
|  | 9 Jacksonville.
|  | 10 Kansas City.
|  | 11 Louisville.
|  | 12 Milwaukee.
|  | 13 Minneapolis/St. Paul.
|  | 14 Nashville.
|  | 15 New Orleans.
|  | 16 Norfolk (Virginia Beach).
|  | 17 Raleigh/Durham.
|  | 18 Richmond.
|  | 19 Sacramento.
|  | 20 San Jose.
|  | 21 Tucson.
|  | 22 Tulsa.
* Group A areas will be given first priority for participation in Part I.
** New Jersey had previously opted not to participate, but will have an opportunity to express consent as part of the New York/Northern New Jersey metropolitan area if New York does not execute a local agreement with the Consortium under the current contract by February 6, 2006.

Eligibility Summary

• Current Contract—Continuity of the current contract will be maintained during the 180 day period. Accordingly, Group A areas may proceed as normal during this period to negotiate and execute a local agreement with the Consortium any time through February 6, 2006, and begin deployment under the terms of the current contract.

• Part I—Group A areas unable to execute a local agreement with the Consortium by February 6, 2006, may maintain eligibility by expressing consent to participate or establishing a date by which they will consent to participate by February 6, 2006. Group B and Group C areas may also express consent to participate or establish a date by which they will consent to participate in Part I by February 6, 2006. In selecting consenting areas to participate in Part I, first priority will be given to Group A areas. Groups B and C will receive equal priority. Priority within individual groups will be based on congestion rankings contained in “The 2005 Urban Mobility Report” ² developed by the Texas Transportation Institute. Rankings for the eligible areas are shown in Table II below. All Groups proceed with the understanding that distribution of available funding to the selected consenting areas from all Groups will begin immediately after February 6, 2006. Those areas that choose to establish a date beyond February 6, 2006, by which they will consent to participate will be accommodated only as remaining funding permits when consent to participate is actually provided.

² A copy of “The 2005 Urban Mobility Report” is available from the Texas Transportation Institute at the following URL: http://mobility.tamu.edu/ums/.

Once selected for participation in Part I, the selected metropolitan areas must establish a partnership and execute a partnership agreement with the Consortium within 180 days of being notified by the FHWA of selection, or forfeit the right to participate in Part I. Selected metropolitan areas must be willing to work within the current contractual mechanism for the initial deployments. This will involve the following:

1. The FHWA has a contractual arrangement with the Consortium in the form of a task order under the DOT's Information Technology Omnibus Procurement (ITOP) program to develop and deploy systems in up to 25 metropolitan areas. Since this program extension is basically a continuation of the current ITOP task order, the Federal funds provided will continue to be made available to the selected partnerships through this arrangement.

Note: This involves direct payment to the Consortium of the Federal funds to be provided; and

2. The selected metropolitan areas are expected to negotiate their own partnership agreements with the Consortium to address any specific needs beyond those included in the ITOP task order, including the facilitation of their financial contribution and accommodation of the work to be performed. This will include a commitment to share existing surveillance data with the Consortium and to provide access to rights-of-way for the installation of additional surveillance infrastructure by the Consortium. The ITOP task order(s), including payment schedule, will be adjusted as necessary to reflect the agreements that have been individually negotiated between the selected metropolitan areas/States and the private partner. Information on ITOP can be found at the following URL: http://www.gsa.gov/Portal/gsa/ep/channelView.do?pageTypeId=8199&channelPage=/ep/channel/gsaOverview.jsp&channelId=-15642.

• Part II—Group A areas unable to execute a local agreement with Traffic.com by February 6, 2006, may also express consent to participate or establish a date by which they will consent to participate in Part II by February 6, 2006. Group B and Group C areas may also express consent to participate or establish a date by which they will consent to participate in Part II by February 6, 2006. No preference will be given to any Groups in the selection of Part II participants. Rather, selection will be prioritized based on congestion rankings contained in “The 2005 Urban Mobility Report” developed by the Texas Transportation Institute. Rankings for the eligible areas are shown in Table II. Once selected for participation in Part II, the selected metropolitan areas will be asked to provide appropriate input to a Federal competitive process for the selection of a private partner. The selected metropolitan areas will also need to negotiate a separate partnership agreement with the chosen private partner to address any specific needs beyond those included in the Federal contract, including the facilitation of their financial contribution and accommodation of the work to be performed. Federal funding will be made available to the selected partnerships through the Federal contract with the chosen private partner.

Eligible areas may express consent to participate as follows: only for Part I; only for Part II; or for both Part I and Part II of the program. Eligible areas expressing consent to participate only for Part I or only for Part II will receive consideration only for the part indicated. Those eligible areas that express consent to participate for both Part I and Part II proceed with the understanding that a single area will ultimately be eligible to participate in only one part of the program. Once selected to participate in one part of ITIP, an eligible area will receive no further consideration for participation in the other part. Any eligible area that expresses consent to participate for both parts, and whose ranking makes them candidates for selection for both parts at the same time, will be given the choice of participating in one or the other.

Table II.—Congestion Rankings (Based on Data From “The 2005 Urban Mobility Report” Developed by the Texas Transportation Institute)
Rank/Metro area | Rank/Metro area
1 Atlanta | 19 Salt Lake City (Group A).
2 Houston | 20 Las Vegas (Group A).
3 Dallas / Fort Worth | 21 Cincinnati.
4 Orlando (Group A) | 22 Columbus, OH.
5 San Jose | 23 Raleigh / Durham.
6 Miami (Group A) | 24 Birmingham.
7 Denver | 25 Greensboro *.
8 Austin | 26 Norfolk (Virginia Beach).
9 New York (Group A) | 27 Milwaukee.
10 Minneapolis / St. Paul | 28 New Orleans.
11 Charlotte | 29 Kansas City.
12 Louisville | 30 Richmond.
13 Sacramento | 31 Hartford.
14 Portland, OR | 32 Albany.
15 Indianapolis | 33 Tulsa.
16 Nashville | 34 Cleveland.
17 Tucson | 35 Burlington*.
18 Jacksonville |
* Data for Greensboro and Burlington were appended to the report.

Instructions to Respondents

Expressions of consent to participate should be in the form of a written letter and must be submitted by the State DOT for the respective eligible areas. Local transportation agencies/organizations that are interested in participating in the program should coordinate with their respective State DOT's to submit a joint expression of consent. Only one expression of consent will be accepted from each eligible area. It is understood that an expression of consent to participate is merely a commitment to enter into negotiations for possible participation in the program. Expressions of consent should include the following:

• Identify the eligible area represented and the agency/organization or agencies/organizations involved. Joint expressions of consent should identify the lead agency/organization;

• Provide an expression of consent to participate, or a date by which consent to participate will be provided, in one of the following: only in Part I; only in Part II; or in both Part I and Part II;

• Provide a statement to the effect that the purpose of the program is understood;

• Acknowledge understanding that the following commitments are necessary in order to participate:

1. Satisfy the non-Federal match requirement (80/20 Federal/non-Federal);

2. Work with private partner toward achievement of program objectives;

3. Share existing surveillance data with private partner;

4. Provide access to rights-of-way for installation of additional surveillance infrastructure by the private partner.

• Identify a point of contact along with appropriate contact information.

For those areas that do not have any interest in participating in either part of the program, we ask that the appropriate State DOT submit a simple letter response identifying the area, and including a statement similar to the following: “We understand the purpose of the U.S. DOT's Transportation Technology Innovation and Demonstration Program, and do not wish to participate in either part of this program.”

Information Sessions: Two information sessions will be available to interested transportation agencies/organizations from the eligible areas to address any questions or concerns relating to participation in the program. The information sessions will be conducted via video conferencing with linkages to appropriate local FHWA Division Offices. Times and locations for the sessions are as follows:

Session 1: 11/8/05 (2 p.m. ET): FHWA division offices | Session 1: 11/8/05 (2 p.m. ET): Address | Session 2: 11/10/05 (1 p.m. ET): FHWA division offices | Session 2: 11/10/05 (1 p.m. ET): Address
Arizona | One Arizona Center, Suite 410, 400 East Van Buren St., Phoenix, AZ 85004-2285 | Alabama | 500 Eastern Blvd., Suite 200, Montgomery, AL 36117-2018.
California | 650 Capitol Mall, Suite 4-100, Sacramento, CA 95814 | Connecticut | 628-2 Hebron Ave., Suite 303, Glastonbury, CT 06033-5007.
Colorado | 12300 West Dakota Ave., Suite 180, Lakewood, CO 80228 | Florida | 545 John Knox Rd., Suite 200, Tallahassee, FL 32303.
Kansas | 6111 SW 29th Street, Suite 100, Topeka, KS 66614-4271 | Georgia | 61 Forsyth St., SW., Suite 17T100, Atlanta, GA 30303-3104.
Louisiana | 5304 Flanders Dr., Suite A, Baton Rouge, LA 70808-4348 | Indiana | 575 N. Pennsylvania St., Rm 254, Indianapolis, IN 46204-1576.
Minnesota | Galtier Plaza, 380 Jackson St., Suite 500, St. Paul, MN 55101-2904 | Kentucky | 330 W. Broadway, Frankfort, KY 40601-1922.
Missouri | 209 Adams St., Jefferson City, MO 65101-3203 | New Jersey | 840 Bear Tavern Rd., Suite 310, West Trenton, NJ 08628-1019.
Nevada | 705 North Plaza St., Suite 220, Carson City, NV 89701-0602 | New York | Leo W. O'Brien Fed. Bldg., Rm 719, Clinton Ave. and North Pearl St., Albany, NY 12207.
Oklahoma | 300 N. Meridian, Suite 105 S, Oklahoma City, OK 73107-6560 | North Carolina | 310 New Bern Ave., Suite 410, Raleigh, NC 27601-1441.
Oregon | The Equitable Center, Suite 100, 530 Center Street, NE., Salem, OR 97301-3740 | Ohio | 200 North High St., Room 328, Columbus, OH 43215.
Texas | Federal Office Building, 300 East Eighth St., Room 826, Austin, TX 78701-3233 | Tennessee | 640 Grassmere Park Ro., Suite 112, Nashville, TN 37211-3568.
Utah | 2520 West 4700 South, Suite 9A, Salt Lake City, UT 84118-1847 | Vermont | Federal Building, 87 State St., Montpelier, VT 05602-2954.
Washington | Suite 501, Evergreen Plaza, 711 South Capitol Way, Olympia, WA 98501-1284 | Virginia | 400 North 8th St., Room 750, Richmond, VA 23240.
Wisconsin | Highpoint Office Park, 567 D'Onofrio Dr., Madison, WI 53719-2814 |  |

Authority: Sec. 5117(b)(3) of Public Law 105-178, as amended by title IX of Public Law 105-206; and Sec. 5508 of Public Law 109-59 (119 Stat. 1144).

Issued on: October 13, 2005.
J. Richard Capka,
Acting Federal Highway Administrator.

[FR Doc. 05-20870 Filed 10-18-05; 8:45 am]

BILLING CODE 4910-22-P